DEPARTMENT OF ENERGY

Federal Energy Regulatory Commission

[Project No. 2570-034]

Eagle Creek Racine Hydro, LLC; Notice of Intent To Prepare an Environmental Assessment

On November 30, 2021, Eagle Creek Racine Hydro, LLC filed a relicense application for the 47.5-megawatt Racine Hydroelectric Project No. 2570 (Racine Project). The Racine Project is located at the U.S. Army Corps of Engineers' (Corps) Racine Locks and Dam on the Ohio River near the Town of Racine in Meigs County, Ohio. The project occupies 27.99 acres of federal land administered by the Corps.

In accordance with the Commission's regulations, on November 1, 2022, Commission staff issued a notice that the project was ready for environmental analysis (REA Notice). Based on the information in the record, including comments filed on the REA Notice, staff does not anticipate that relicensing the project would constitute a major federal action significantly affecting the quality of the human environment. Therefore, staff intends to prepare an Environmental Assessment (EA) on the application to relicense the project.

The EA will be issued and circulated for review by all interested parties. All comments filed on the EA will be analyzed by staff and considered in the Commission's final licensing decision.

The application will be processed according to the following schedule. Revisions to the schedule may be made as appropriate.

Milestone | Target date
Commission issues EA | July 2023.¹
Comments on EA | August 2023.
¹ The Council on Environmental Quality's (CEQ) regulations under 40 CFR 1501.10(b)(1) require that EAs be completed within 1 year of the federal action agency's decision to prepare an EA. This notice establishes the Commission's intent to prepare an EA for the Racine Hydroelectric Project. Therefore, in accordance with CEQ's regulations, the EA must be issued within 1 year of the issuance date of this notice.

Any questions regarding this notice may be directed to Jay Summers at (202) 502-8764 or jay.summers@ferc.gov.

Dated: January 18, 2023.
Kimberly D. Bose,
Secretary.

[FR Doc. 2023-01320 Filed 1-23-23; 8:45 am]

BILLING CODE 6717-01-P